DEPARTMENT OF TRANSPORTATION

Federal Motor Carrier Safety Administration

[Docket No. FMCSA-2005-21952]

Agency Information Activities; Clearance of a New Information Collection: Assessing the Effectiveness of the Arbitration Program as a Means of Settling Household Goods Disputes

AGENCY: Federal Motor Carrier Safety Administration (FMCSA), Department of Transportation (DOT).

ACTION: Request for public comments and Office of Management and Budget (OMB) approval of a new information collection.

SUMMARY: This notice seeks comments from the public regarding the need for FMCSA to collect information by using three new surveys to assess how household goods (HHGs) carriers and shippers (persons who arrange for the transportation of, or those who move, household goods) are satisfied with current arbitration dispute resolution procedures. The information collection (IC) meets the statutory requirements of the Interstate Commerce Commission Termination Act of 1995 (ICCTA). This notice is published (pursuant to the Paperwork Reduction Act of 1995) to measure the need for the proposed information collection, to find ways to minimize the burden on household goods shippers and carriers, to find ways to enhance the quality of information collected, and to verify the accuracy of the agency's estimate of the burden (measured in work hours) on household goods shippers and carriers.

DATES: Please submit comments on or before December 23, 2005.

ADDRESSES: You may submit written comments to the docket by any of the following methods:

• Mail: Dockets Facility, U.S. Department of Transportation, Room PL-401, 400 Seventh Street, SW., Washington, DC 20590-0001. Anyone wanting confirmation of mailed comments must include a self-addressed stamped postcard.

• Hand delivery or courier: Room PL-401 on plaza level of the Nassif Building, 400 Seventh Street, SW., Washington DC. The Dockets Facility is open from 10 a.m. to 5 p.m., Monday through Friday, except on Federal holidays.

• Web site: Go to http://dms.dot.gov, click on “Comments/Submissions” and follow instructions at the site.

All written comments should identify the docket number and notice number stated in the heading of this notice.

Docket access: For copies of this notice or other materials in the docket, you may contact the Dockets Facility by phone (202-366-9329) or visit the facility at the above street address. For Web access to the dockets to read and download filed material, go to http://dms.dot.gov/search. Then type in the last four digits of the docket number shown in the heading of this notice, and click on “Search.”

Anyone can search the electronic form of all comments filed in any of our dockets by the name of the individual submitting the comment (or signing the comment, if submitted for an association, business, labor union, etc.). You may review DOT's complete Privacy Act Statement in the April 11, 2000 issue of the Federal Register (65 FR 19477) or go to http://dms.dot.gov.

Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

FOR FURTHER INFORMATION CONTACT: Mr. Darrell Ruban, (202) 385-2400, Commercial Enforcement Division (MC-ECC), Federal Motor Carrier Safety Administration, U.S. Department of Transportation, 400 Seventh Street, SW., Washington, DC 20590. Office hours are from 8 a.m. to 5 p.m., e.t., Monday through Friday, except Federal holidays.

SUPPLEMENTARY INFORMATION: The Secretary of Transportation (Secretary) is authorized to register for-hire motor carriers of regulated commodities under the provisions of 49 U.S.C. 13902, surface freight forwarders under the provisions of 49 U.S.C. 13903, and property brokers under the provisions of 49 U.S.C. 13904. These persons may conduct interstate transportation services only if they are registered pursuant to 49 U.S.C. 13901. As a condition of registration under 49 U.S.C. 13902 and 13903 (ICCTA (Pub. L. 104-88, 109 Stat. 803) (December 29, 1995); (49 U.S.C. 14708 (a)), a carrier providing transportation of household goods subject to jurisdiction under subchapter I or III of chapter 135, title 49, U.S.C., must agree to offer arbitration to HHGs shippers as a means of settling disputes concerning damage or loss to the household goods transported. Under 49 U.S.C. 14708(g)), the Secretary is required to complete an assessment of the dispute settlement program and if, after notice and comment, it is determined that changes to the program are necessary, the Secretary will implement such changes and provide a report to Congress on the changes made. The General Accountability Office (GAO) recommended such an assessment in their March 2001 review (Report Number GAO-01-318). The Secretary has delegated authority pertaining to these registrations and arbitration matters to FMCSA.

Since the passage of the ICCTA, the level of Federal involvement in mitigating interstate HHGs disputes has been significantly reduced. FMCSA is responsible for overseeing the arbitration process, but has provided only limited attention, staffing, and resources to this non-safety related function. Shippers of household goods unhappy about loss or damage to property during their move with an interstate HHGs carrier may follow one of several paths to settle disputes: (1) File a complaint with consumer assistance organizations or FMCSA; (2) agree to participate in a binding arbitration process with the American Moving and Storage Association (AMSA) or some other organization that runs an arbitration process; or (3) pursue civil litigation. Each carrier providing transportation of household goods must agree to offer to shippers of HHGs neutral arbitration, as well as a concise easy-to-read, accurate summary of the arbitration procedure, any applicable costs, and disclosure of the legal effects of election to utilize arbitration and inform shippers about the availability of this process to resolve complaints (49 U.S.C. 14708 (a) and (b)(2)). As mandated by Congress, FMCSA is required to determine the effectiveness of arbitration as a means of settling HHGs disputes from the point of view of both interstate household goods shippers and carriers. The increasing number of consumer complaints related to HHGs shipments received by FMCSA and other consumer protection organizations demonstrates the current need for such an assessment.

Type of Information Collection Request: New collection.

Title of Information Collection: Assessing the Effectiveness of the Arbitration Program as a Means of Settling Household Goods Disputes.

OMB Approval Number: 2126-XXXX.

Frequency: Annually.

Use: This collection will be used by FMCSA to assess the effectiveness of the arbitration program as a means of settling disputes from the perspective of the household goods shippers and carriers.

Estimated Number of Respondents: 300 [100 respondents × 3 surveys = 300 respondents].

Respondents: Household goods shippers and carriers.

Total Annual Hours Requested: The estimated total annual burden is 150 hours for the information collection comprised of three arbitration satisfaction surveys—one for HHGs carriers, one for HHGs shippers who have used arbitration, and one for HHGs shippers who have filed claims (or complaints with FMCSA). Each survey requires 100 responses to achieve statistical significance of the results [100 respondents per survey × ½ hour per respondent × 3 surveys = 150 hours].

Authority: The Paperwork Reduction Act of 1995, 44 U.S.C. chapter 35, as amended; 49 U.S.C. 13901, 13902, 13903, 13904 and 14708; the ICC Termination Act of 1995 (Pub. L. 104-88, 109 Stat. 803 (December 29, 1995)); and 49 CFR § 1.73.

Issued on: October 17, 2005.
Annette M. Sandberg,
Administrator.

[FR Doc. 05-21202 Filed 10-21-05; 8:45 am]

BILLING CODE 4910-EX-P